DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.53), the following Customs broker license and all associated permits are suspended effective July 23, 2012, for a duration of 30-months.

Name | License # | Issuing port
Kathleen Ann Cataldi | 14043 | Los Angeles.

Dated: July 18, 2012.
Richard F. DiNucci,
Acting Assistant Commissioner, Office of International Trade.

[FR Doc. 2012-18183 Filed 7-24-12; 8:45 am]

BILLING CODE 9111-14-P